DEPARTMENT OF HOMELAND SECURITY

[Docket No. DHS-2012-0027]

National Infrastructure Advisory Council

AGENCY: National Protection and Programs Directorate, DHS.

ACTION: Committee Management; Notice of an open Federal Advisory Committee Meeting.

SUMMARY: The National Infrastructure Advisory Council (NIAC) will meet on Tuesday, July 17, 2012, at the Department of Transportation's National Highway Institute, 1310 North Courthouse Road, Suite 300, Virginia Room, Arlington, VA 22201. The meeting will be open to the public.

DATES: The NIAC will meet Tuesday, July 17, 2012, from 1:30 p.m. to 4:30 p.m. The meeting may close early if the committee has completed its business. For additional information, please consult the NIAC Web site, www.dhs.gov/NIAC, or contact the NIAC Secretariat by phone at (703) 235-2888 or by email at NIAC@dhs.gov.

ADDRESSES: 1310 North Courthouse Road, Suite 300, Virginia Room, Arlington, VA 22201.

For information on facilities or services for individuals with disabilities or to request special assistance at the meeting, contact the NIAC Secretariat at (703) 235-2888 as soon as possible.

To facilitate public participation, we are inviting public comment on the issues to be considered by the Council as listed in the “Supplemental Section” section below. Comments must be submitted in writing no later than July 6, 2012, and must be identified by “DHS-2012-0027” and may be submitted by any one of the following methods:

• Federal eRulemaking Portal: www.regulations.gov. Follow the instructions for submitting comments.

• Email: NIAC@dhs.gov. Include the docket number in the subject line of the message.

• Fax: 703-603-5098.

• Mail: Nancy Wong, National Protection and Programs Directorate, Department of Homeland Security, 245 Murray Lane SW., Mail Stop 0607, Arlington, VA 20598-0607.

Instructions: All submissions received must include the words “Department of Homeland Security” and the docket number for this action. Comments received will be posted without alteration at www.regulations.gov, including any personal information provided.

Docket: For access to the docket and to read background documents or comments received by the NIAC, go to www.regulations.gov.

Members of the public will have an opportunity to provide oral comments after the presentation of the report from the Regional Resilience Working Group. We request that comments be limited to the issues listed in the meeting agenda and previous NIAC studies. All previous NIAC studies can be located at www.dhs.gov/NIAC. Relevant public comments may be submitted in writing or presented in person for the Council to consider. Comments received by Nancy Wong after July 6, 2012, may still be accepted and reviewed by the members. In-person presentations will be limited to three minutes per speaker, with no more than 30 minutes for all speakers. Parties interested in making in-person comments should register no later than 15 minutes prior to the beginning of the meeting at the meeting location.

FOR FURTHER INFORMATION CONTACT: Nancy Wong, National Infrastructure Advisory Council Designated Federal Officer, Department of Homeland Security, telephone (703) 235-2888.

SUPPLEMENTARY INFORMATION: Notice of this meeting is given under the Federal Advisory Committee Act, 5 U.S.C. App. (Pub. L. 92-463). The NIAC shall provide the President, through the Secretary of Homeland Security, with advice on the security of the critical infrastructure sectors and their information systems.

The NIAC will meet to address issues relevant to the protection of critical infrastructure as directed by the President. At this meeting, the committee will receive a presentation from the NIAC Regional Resilience Working Group documenting their work to date on the Regional Resilience Study, which will be posted on the Council's public Web page on www.dhs.gov/NIAC no later than five days prior to the meeting. The Council will review and provide further direction to the working group.

Meeting Agenda:

I. Opening of Meeting

II. Roll Call of Members

III. Opening Remarks and Introductions

IV. Approval of April 17, 2012, Minutes

V. NIAC Presentation on Regional Resilience Working Group

VI. Public Comment: Discussion Limited to Meeting Agenda Items and Previous NIAC Studies

VII. Closing Remarks

Dated: June 25, 2012.
Nancy Wong,
Designated Federal Officer for the NIAC.

[FR Doc. 2012-16143 Filed 6-29-12; 8:45 am]

BILLING CODE 9110-9P-P